DEPARTMENT OF ENERGY

Federal Energy Regulatory Commission

[Project No. 2194-020]

FPL Energy Maine Hydro LLC; Notice of Application Accepted for Filing a Soliciting Motions To Intervene and Protest

February 24, 2004.

Take notice that the following hydroelectric application has been filed with the Commission and is available for public inspection.

a. Type of Application: New major license.

b. Project No.: P-2194-020.

c. Date Filed: June 30, 2003.

d. Applicant: FPL Energy Maine Hydro LLC.

e. Name of Project: Bar Mills Hydroelectric Project.

f. Location: On the Saco River, in the Towns of Buxton and Hollis, York County, Maine. The project would use no Federal lands.

g. Filed Pursuant to: Federal Power Act, 16 U.S.C. 791 (a)-825(r).

h. Applicant Contact: Mr. F. Allen Wiley, Vice President, FPL Energy Maine Hydro LLC, 160 Capitol Street, Augusta, Maine 04330, or call (207) 623-8413.

i. FERC Contact: Ed Lee, ed.lee@ferc.gov or call (202) 502-6082.

j. Deadline for Filing Motions to Intervene and Protest: 60 days from the issuance date of this notice.

All documents (original and eight copies) should be filed with: Magalie R. Salas, Secretary, Federal Energy Regulatory Commission, 888 First Street, NE., Washington, DC 20426.

The Commission's rules of practice and procedure require all intervenors filing Docket No. P-2194-020 documents with the Commission to serve a copy of that document on each person whose name appears on the official service list for the project. Further, if an intervenor files comments or documents with the Commission relating to the merits of an issue that may affect the responsibilities of a particular resource agency, they must also serve a copy of the document on that resource agency.

Motions to intervene and protests and requests may be filed electronically via the Internet in lieu of paper. The Commission strongly encourages electronic filings. See CFR 385.200 (a) (1) (iii) and the instructions on the Commission's Web site (http://www.ferc.gov) under the “e-Filing” link.

k. This application has been accepted, but is not ready for environmental analysis at this time.

l. The Bar Mills Hydro Project consists of the following existing facilities: (1) A 400-foot-long by 25-foot-high dam, with 6.75 foot-high flashboards, and a 90 to 200 foot wide by 725 foot long power canal; (2) the 5.3 mile long impoundment, which has a surface area of 263 acres at the normal full pond elevation of 148.5 feet above mean sea level; (3) a powerhouse containing two 2.25 megawatts generating units with total installed generating capacity of 4.5 megawatts (MW); and (4) appurtenant facilities. The average annual generation is 18,850 MWh. The dam and existing project facilities are owned by the applicant.

m. A copy of the application is available for review at the Commission in the Public Reference Room or may be viewed on the Commission's Web site at http://www.ferc.gov using the eLibrary link. Enter the docket number excluding the last three digits in the docket number field to access the document. For assistance, contact FERC Online Support at FERCOnlineSupport@ferc.gov or toll-free at 1-866-208-3676, or for TTY, (202) 502-8659. A copy is also available for inspection and reproduction at the address in item h. above.

You may also register online at http://www.ferc.gov/esubscribenow.htm to be notified via email of new filings and issuances related to this or other pending projects. For assistance, contact FERC Online Support.

n. Anyone may submit a protest or a motion to intervene in accordance with the requirements of rules of practice and procedure, 18 CFR 385.210, 385.211, and 385.214. In determining the appropriate action to take, the Commission will consider all protests filed, but only those who file a motion to intervene in accordance with the Commission's rules may become a party to the proceeding. Any protests or motions to intervene must be received on or before the specified deadline date for the particular application.

All filings must (1) bear in all capital letters the title “PROTEST” or “MOTION TO INTERVENE”; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural Schedule and Final Amendments: The application will be processed according to the following Hydro Licensing Schedule. Revisions to the schedule will be made as appropriate. The Commission staff proposes to issue one environmental assessment rather than issue a draft and final EA. Comments, terms and conditions, recommendations, prescriptions, and reply comments, if any, will be addressed in the EA.

Issue Acceptance Letter—February 2004

Additional Information Due—December 2004

Issue Scoping Document—January 2005

Notice that application is ready for environmental analysis—March 2005

Final amendments to the application must be filed with the Commission no later than 30 days from the issuance date of the notice of ready for environmental analysis.

Magalie R. Salas,
Secretary.

[FR Doc. E4-430 Filed 2-27-04; 8:45 am]

BILLING CODE 6717-01-P